FEDERAL ELECTION COMMISSION

Sunshine Act Meeting Notice

* * * * *

Previously Announced Date & Time: Tuesday, June 3, 2003, 10 a.m., meeting closed to the public. This meeting was cancelled.

Previously Announced Date & Time: Thursday, June 5, 2003, 10 a.m. meeting open to the public. This meeting was cancelled.

Previously Announced Date & Time: Friday, June 6, 2003, 10 a.m. public hearing on public financing of presidential candidates and nominating conventions. The starting time has been changed to 9 a.m.

* * * * *

Date & Time: Tuesday, June 10, 2003, at 10 a.m.

Place: 999 E street, NW., Washington, DC.

Status: This meeting will be closed to the public.

Items To Be Discussed: Compliance matters pursuant to 2 U.S.C. 437g. Audits conducted pursuant to 2 U.S.C. 437g, 438(b), and Title 26, U.S.C. Matters concerning participation in civil actions or proceedings or arbitration. Internal personnel rules and procedures or matters affecting a particular employee.

* * * * *

Date & Time: Wednesday, June 11, 2003, at 10 a.m.

Place: 999 E Steet, NW., Washington, DC (ninth floor).

Status: This hearing will be open to the public.

Matter Before the Commission: Enforcement policies and procedures.

Date & Time: Thursday, June 12, 2003 at 10 a.m.

Place: 999 E Street, NW., Washington, DC (ninth floor).

Status: This meeting will be open to the public.

Items To Be Discussed: Correction and Approval of Minutes.

Draft Advisory Opinion 2003-05: National Association of Home Builders of the United States (NAHB) by counsel, E. Mark Braden and William H. Schweitzer.

Draft Advisory Opinion 2003-10—Rory Reid and the Nevada State Democratic Party by counsel, Marc E. Elias.

Draft Advisory Opinion 2003-13—American Academy of Ophthalmologists, Inc. by Steven L. Miller, Director, OPHTHPAC.

Routine Administrative Matters.

Person to Contact for Information: Mr. Ron Harris, Press Officer, Telephone: (202) 694-1220.

Mary W. Dove,
Secretary of the Commission.

[FR Doc. 03-14365 Filed 6-03-03; 4:23 pm]

BILLING CODE 6715-01-M